DEPARTMENT OF HEALTH AND HUMAN SERVICES

Administration for Children and Families

Proposed Information Collection Activity; Comment Request

Proposed Projects:

Title: Adolescent Follow-up to the National Survey of Child and Adolescent Well-Being.

OMB No.: 0970-0202.

Description: The Department of Health and Human Services intends to collect data on a subset of children and families who have participated in the National Survey of Child and Adolescent Well-Being (NSCAW). The NSCAW was authorized under Section 427 of the Personal Responsibility and Work Opportunity Reconciliation Act of 1996. The survey began in November 1999 with a national sample of 5,501 children ages 0-14 who had been the subject of investigation by Child Protective Services (CPS) during the base line data collection period, which extended from November 1999 through April 2000. Direct assessments and interviews were conducted with the children themselves, their primary caregivers, their caseworkers, and, for school-aged children, their teachers.

Follow-up data collections were conducted 12 months, 18 months, and 36 months post-baseline. The current data collection plan involves a subset of 950 children from the original sample who were ages 12 and older at baselines, and who will be ages 18 and older at follow-up. This group will be in early adulthood, and this follow-up will allow for assessing the functioning and service utilization for this age group as they enter independent living situations. The youths will be interviewed with questions covering social, emotional and behavioral adjustment, living arrangements, employment, service needs, and service utilization.

The NSCAW is unique in that it is the only source of nationally representative, firsthand information about the functioning and well-being, service needs, and service utilization of children and families who come to the attention of the child welfare system. Information is collected about children's cognitive, social, emotional, behavioral, and adaptive functioning, as well as family and community factors that are likely to influence their functioning. Family service needs and service utilization also are addressed in the data collection.

The data collection for the follow-up will follow the same format as that used in previous rounds of data collection, and will employ the same instruments that were used for adolescents who had moved into independent living status in previous rounds. Data from NSCAW are made available to the research community through licensing arrangements from the National Data Archive on Child Abuse and neglect, housed at Cornell University.

Respondents: 950 youths ages 18 and older.

Annual Burden Estimates
Instrument | Number of respondents | Number of responses per respondent | Average burden hours per response | Total burden hours
Youth Interview | 950 | 1 | 1.5 | 1,425

Estimated Total Annual Burden Hours: 1,425.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: September 1, 2005.
Robert Sargis,
Reports Clearance Officer.

[FR Doc. 05-17750 Filed 9-7-05; 8:45 am]

BILLING CODE 4184-01-M